SECURITIES AND EXCHANGE COMMISSION

[OMB Control No. 3235-0066]

Agency Information Collection Activities; Submission for OMB Review; Comment Request; Extension: Form S-8-Securities Act Registration Statement

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form S-8 (17 CFR 239.16b) under the Securities Act of 1933 (15 U.S.C. 77a et seq.) is the primary registration statement used by eligible registrants to register securities to be issued in connection with an employee benefit plan. The information collected is intended to ensure the adequacy of information available to investors in connection with securities offerings. The information required by Form S-8 is mandatory, and Form S-8 is publicly available on the Commission's Electronic Data Gathering, Analysis, and Retrieval (“EDGAR”) system. We estimate that Form S-8 takes approximately 28.25 hours per response to prepare and is filed once per year by approximately 2,541 respondents. We estimate that 50% of the burden (14.125 hours) is carried internally by the issuer for a total annual reporting burden of 35,892 (14.125 hours per response × 2,541 responses). We estimate that 50% of the burden is carried externally by outside professionals at a rate of $600 per hour for a total cost burden of $21,534,975 (14.125 hours per response × $600 per hour × 2,541 responses).

An agency may not conduct or sponsor, and a person is not required to respond to, a collection of information unless it displays a currently valid OMB Control Number.

The public may view and comment on this information collection request at: https://www.reginfo.gov/public/do/PRAViewICR?ref_nbr=202508-3235-004 or email comment to MBX.OMB.OIRA.SEC_desk_officer@omb.eop.gov within 30 days of the day after publication of this notice, by December 29, 2025.

Dated: November 25, 2025.
Sherry R. Haywood,
Assistant Secretary.

[FR Doc. 2025-21494 Filed 11-26-25; 8:45 am]

BILLING CODE 8011-01-P